ENVIRONMENTAL PROTECTION AGENCY

[EPA-HQ-OPP-2015-0317; FRL-9948-05]

Amendments To Terminate Uses for Certain Pesticide Registrations

AGENCY: Environmental Protection Agency (EPA).

ACTION: Notice.

SUMMARY: This notice announces EPA's final order for the amendments to terminate uses, voluntarily requested by the registrants and accepted by the Agency, of the products listed in Table 1, pursuant to the Federal Insecticide, Fungicide, and Rodenticide Act (FIFRA). This cancellation order follows a June 10, 2015 Federal Register Notice of Receipt of Requests from the registrants listed in Table 2 to amend uses of these product registrations. These are not the last products containing these pesticides registered for use in the United States. In the June 10, 2015 notice, EPA indicated that it would issue an order implementing the amendments to terminate uses, unless the Agency received substantive comments within the 30 and 180 day comment periods that would merit its further review of these requests, or unless the registrants withdrew their requests. The Agency did not receive any comments on the notice. Further, the registrants did not withdraw their requests. Accordingly, EPA hereby issues in this notice a cancellation order granting the requested amendments to terminate uses. Any distribution, sale, or use of the products subject to this cancellation order is permitted only in accordance with the terms of this order, including any existing stocks provisions.

DATES: The cancellations are effective July 15, 2016.

FOR FURTHER INFORMATION CONTACT: Ricardo Jones, Pesticide Re-Evaluation Division (7508P), Office of Pesticide Programs, Environmental Protection Agency, 1200 Pennsylvania Ave. NW., Washington, DC 20460-0001; main telephone number: (703) 347-0493; email address: jones.ricardo@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0317, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the amendments to terminate uses, as requested by registrants of products registered under FIFRA section 3 (7 U.S.C. 136a). These registrations are listed in sequence by registration number in Table 1 of this unit.

Table 1—Product Registration Amendments To Terminate Uses
EPA registration No. | Product name | Chemical name | Uses terminated
1021-2782 | Clothianidin Technical | Clothianidin | Fruiting Vegetables Crop Grouping (CG8) and Low-Growing Berry except Strawberry (CG13-07H) and retain the existing tolerances.
59639-150 | V-10170 2.13SC Insecticide | Clothianidin | Fruiting Vegetables Crop Grouping (CG8) and Low-Growing Berry except Strawberry (CG13-07H) and retain the existing tolerances.
59639-152 | Arena 50 WDG Insecticide | Clothianidin | Fruiting Vegetables Crop Grouping (CG8) and Low-Growing Berry except Strawberry (CG13-07H) and retain the existing tolerances.
59639-173 | Clothianidin Technical Insecticide | Clothianidin | Fruiting Vegetables Crop Grouping (CG8) and Low-Growing Berry except Strawberry (CG13-07H) and retain the existing tolerances.
90963-1 | Nipacide MX | Chloroxylenol | As a preservative for paints, plastics and plastic coatings, thickeners & adhesives/binders. As a disinfectant, sanitizer, deodorizer or antimicrobial agent for application to hard, non-porous surfaces in residential, health-care, institutional, food-processing and industrial facilities including animal housing facilities, veterinary clinics, farms, live-stock, swine and poultry houses. As a biocide in oil and gas exploration including enhanced recovery systems, flood water, fracturing fluids and gels, injection waters, pipelines, holding pond water, disposal well water, tubing, pressure vessels and storage tanks. As a biocide in industrial process water systems.
90963-2 | Nipacide CMX | Chloroxylenol | As a preservative for paints, plastics and plastic coatings, thickeners & adhesives/binders. As a disinfectant, sanitizer, deodorizer or antimicrobial agent for application to hard, non-porous surfaces in residential, health-care, institutional, food-processing and industrial facilities including animal housing facilities, veterinary clinics, farms, live-stock, swine and poultry houses. As a biocide in oil and gas exploration including enhanced recovery systems, flood water, fracturing fluids and gels, injection waters, pipelines, holding pond water, disposal well water, tubing, pressure vessels and storage tanks. As a biocide in industrial process water systems.

Table 2 of this unit includes the names and addresses of record for all registrants of the products in Table 1 of this unit, in sequence by EPA company number.

Table 2—Registrants of Amended Products
EPA company No. | Company name and address
1021 | McLaughlin Gormley King Company, 8810 Tenth Avenue North, Minneapolis, MN 55427-4319.
59639 | Valent U.S.A. Corporation, 1600 Riviera Avenue, Suite 200, Walnut Creek, CA 94596.
90963 | Ortho-Clinical Diagnostics, Inc., Agent Name: Lewis & Harrison, LLC, 122 C Street NW., Suite 505, Washington, DC 20001.

III. Summary of Public Comments Received and Agency Response to Comments

During the public comment period provided, EPA received no comments in response to the June 10, 2015 Federal Register notice announcing the Agency's receipt of the requests for amendments to terminate uses of products listed in Table 1 of Unit II.

IV. Cancellation Order

Pursuant to FIFRA section 6(f) (7 U.S.C. 136d(f)), EPA hereby approves the requested amendments to terminate uses of clothianidin and chloroxylenol registrations identified in Table 1 of Unit II. Accordingly, the Agency orders that the product registrations identified in Table 1 of Unit II. are hereby amended to terminate the affected uses. The effective date of the amendments to terminate affected uses is July 15, 2016. Any distribution, sale, or use of existing stocks of the products identified in Table 1 of Unit II. in a manner inconsistent with any of the provisions for disposition of existing stocks set forth in Unit VI. will be considered a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 10, 2015, (80 FR 32947) (FRL-9928-01). The comment period for chloroxylenol closed on July 10, 2015, and the comment period for clothianidin closed on January 6, 2016.

VI. Provisions for Disposition of Existing Stocks

EPA's existing stocks policy published in the Federal Register of June 26, 1991 (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action. The effective date of this cancellation is July 15, 2016. The cancellation order that is the subject of this notice includes the following existing stock provisions:

The registrant may sell and distribute existing stocks of products listed in Table 1 of Unit II. until July 17, 2017. Persons other than the registrant may sell and distribute existing stocks of products listed in Table 1 of Unit II. until exhausted. Use of the products listed in Table 1 of Unit II. may continue until existing stocks are exhausted, provided that such use is consistent with the terms of the previously approved labeling on, or that accompanied, the canceled products.

Authority: 7 U.S.C. 136 et seq.

Dated: July 7, 2016.
Michael Goodis,
Acting Director, Pesticide Re-Evaluation Division, Office of Pesticide Programs.

[FR Doc. 2016-16793 Filed 7-14-16; 8:45 am]

BILLING CODE 6560-50-P